DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission will be held at 9 a.m., September 10, 2004 at the King Kamehameha's Kona Beach Hotel, Marina Room, Kailua-Kona, Hawaii.

The agenda will include Adoption of By-Laws, Discussions on the Park's Authorized Boundary and the Proposed Live-In Cultural Center Workshop, and Update on Park's Projects followed by a park visit.

The meeting is open to the public. Minutes will be recorded for documentation and transcribed for dissemination. Minutes of the meeting will be available to the public after approval of the full Advisory Commission. Transcripts will be available after 30 days of the meeting.

For copies of the minutes, contact Kaloko-Honokohau National Historical Park at (808) 329-6881.

Dated: July 13, 2004.
Geraldine K. Bell,
Superintendent, Kaloko-Honokohau National Historical Park.

[FR Doc. 04-19390 Filed 8-24-04; 8:45 am]

BILLING CODE 4312-GH-M